DEPARTMENT OF HEALTH AND HUMAN SERVICES

Centers for Disease Control and Prevention

National Health Organization Strategies To Provide Information and Education for Patients, Their Family Members, Friends, and Caregivers With Respect to Hematologic Cancers

Announcement Type: New.

Funding Opportunity Number: 04159.

Catalog of Federal Domestic Assistance Number: 93.283.

Key Dates:

Letter of Intent Deadline: May 3, 2004.

Application Deadline: May 28, 2004.

I. Funding Opportunity Description

Authority: This program is authorized under sections 301(a), 317(k)(2) of the Public Health Service Act, [42 U.S.C. 241 (a)and 247b(k)(2)], as amended.

Purpose: The purpose of the program is to announce the availability of fiscal year 2004 funds for cooperative agreements for national health organization strategies to provide information and education for patients, their family members, friends, and caregivers with respect to hematologic cancers. This program will assist national health organizations in the development and implementation of strategies to promote and disseminate information and education, and to increase awareness of support services for patients, their family members, friends, and caregivers with respect to hematologic cancers, particularly leukemia, lymphoma, and/or multiple myeloma.

This program addresses the “Healthy People 2010” focus area of cancer, specifically Chapter 3, Goals 3-1 (Reduce the overall cancer death rate) and Goals 3-15 (Increase the proportion of cancer survivors who are living 5 years or longer after diagnosis).

Measurable outcomes of the program will be in alignment with the following performance goal for the Centers for Disease Control and Prevention (CDC): Increase the proportion of cancer of hematologic cancer survivors, particularly leukemia, lymphoma, and/or multiple myeloma who are living five years or longer after diagnosis through effective individual, community, and health care provider health promotion strategies, information dissemination, and education.

This project includes developing partnerships to facilitate the exchange of previously developed and tested hematologic cancer information and education resources (existing or newly developed) among a variety of public agencies and national health organizations. This program may also include efforts to develop and test new hematologic cancer information and education resources for individuals who may be underserved, uninsured or underinsured, or of racial/ethnic minorities if a need can be demonstrated and appropriate materials are not available.

Activities: Awardee activities for this program include development of programs, strategies, and partnerships designed to promote and disseminate previously effective developed and tested information and education resources for patients, their family members, friends, and caregivers with respect to hematologic cancers, particularly of leukemia, lymphoma, and/or multiple myeloma, as follows:

• Develop and test new hematologic cancer information and education resources for individuals who may be underserved, uninsured or underinsured, or of racial/ethnic minorities if a need can be demonstrated and no materials currently exist pending CDC approval. Performance will be measured by the extent to which the applicant reaches hematologic cancer patients, their family members, friends, and caregivers.

• Develop and carry out strategies to increase awareness of patient support services for hematologic cancer patients.

Performance will be measured by the extent to which implemented strategies increase awareness of services.

• Establish specific, measurable, and realistic short-term (one year) and long-term (three year) program objectives consistent with the purpose of this program announcement for the accomplishment of program activities.

Performance will be measured based upon the extent to which objectives are realistic, time-phased, and achievable.

• Identify and hire appropriate staff.

Performance will be measured by the extent to which the organization has hired qualified staff and supported them with resources to accomplish the goals and objectives proposed.

• Establish partnerships with other federal agencies, such as National Cancer Institute (NCI) and Health Resources and Services Administration (HRSA), Comprehensive Cancer Control (CCC) programs in state health departments, American Indian/Alaska Native organizations, U.S. territories, the District of Columbia, and/or other national health organizations to implement hematologic cancer education activities to ensure effective and efficient implementation of the program strategies.

Performance will be measured based on the extent to which the program establishes and uses new partnerships in developing and disseminating hematologic cancer education activities.

• Participate in a minimum of two CDC or other hematologic cancer partner meetings per year to facilitate the accomplishment of proposed objectives. Performance will be measured by the extent to which the organization participates in or facilitates at least two meetings per year (e.g. annual, regional, CDC-sponsored, etc.) to either gain information or to educate partners.

• Evaluate achievement of each goal and objective through a well-designed evaluation plan. Effectiveness will be measured based on the development and use of objective, quantitative measures to demonstrate the accomplishment of program goals, objectives, and intended outcomes.

• Disseminate information regarding organization achievements and activities to hematologic cancer patients, their family members, friends, and caregivers.

Performance will be measured by the activities undertaken to disseminate strategies and share information with partners.

In a cooperative agreement, CDC staff is substantially involved in the program activities, above and beyond routine grant monitoring.

CDC Activities for this program are as follows:

• Collaborate with recipients in the development, implementation, evaluation, and dissemination of program strategies designed to provide information and education, and to increase awareness of support services for patients, their family members, friends, and caregivers with respect to hematologic cancers, particularly leukemia, lymphoma, and/or multiple myeloma.

• Collaborate with recipients in the development of information dissemination approaches that relate to the purpose of this program announcement.

• Facilitate the exchange of program information, technical assistance, and the development of partnerships between recipients funded under this program announcement and federal agencies, community organizations, health departments, and other appropriate partners. Collaborate with recipients to develop meeting agendas including identifying speakers and presenters.

• Review and approve all strategies to develop and test new materials to ensure that there is a clear demonstrated need for a particular population.

II. Award Information

Type of Award: Cooperative Agreement. CDC involvement in this program is listed in the Activities Section above.

Fiscal Year Funds: 2004.

Approximate Total Funding: $3,000,000.

Approximate Number of Awards: 5-6.

Approximate Average Award: $500,000.

(This amount is for the first 12-month budget period, and includes both direct and indirect costs.)

Floor of Award Range: None.

Ceiling of Award Range: $500,000 (This ceiling is for the first 12-month budget period.)

Anticipated Award Date: August 16, 2004.

Budget Period Length: 12 months.

Project Period Length: 3 years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit and for profit, such as:

• Public nonprofit organizations

• Private nonprofit organizations

• For profit organizations

Applications may be submitted by national health organizations that have the capacity and ability to conduct nationwide programmatic activities related to promoting hematologic cancer education and information dissemination on support services that serve a large number of hematologic cancer patients. Applicants must demonstrate the ability to implement programs related to hematologic cancers. Due to the fact that this program is intended to serve the entire nation, to be eligible, national organizations must serve as an umbrella organization for their constituents (having regional or local chapters or memberships), implementing activities in 25 or more states.

III.2. Cost Sharing or Matching

Matching funds are not required for this program.

III.3. Other

If you request a funding amount greater than the ceiling of the award range, your application will be considered non-responsive, and will not be entered into the review process. You will be notified that your application did not meet the submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI):

Your LOI must be written in the following format:

• Maximum number of pages: 2

• Font size: 12-point unreduced

• Double spaced

• Paper size: 8.5 by 11 inches

• Page margin size: One inch

• Printed only on one side of page

• Written in plain language, avoid jargon

Your LOI must contain your organization's name, address and contact information.

Application: You must submit a project narrative with your application forms. The narrative must be submitted in the following format:

• Maximum number of pages: 35. If your narrative exceeds the page limit, only the first pages which are within the page limit will be reviewed.

• Font size: 12 point unreduced

• Paper size: 8.5 by 11 inches

• Page margin size: One inch

• Double spaced

• Printed only on one side of page

• Held together only by rubber bands or metal clips; not bound in any other way.

Your narrative should address activities to be conducted over the entire three year project period, and must include the following items in the order listed:

Executive Summary: The applicant should provide a clear, concise 1-2 page written summary to include:

1. Proposed strategies to promote and disseminate information and education, and to increase awareness of support services for patients, their family members, friends, and caregivers with respect to hematologic cancers.

2. Statement of capability to conduct the proposed strategies.

3. Requested amount of funding.

Capacity: Describe the applicant's history and experience with program activities or any services provided to people affected by hematologic cancers, and the rationale for use of previously conducted or newly developed innovative strategies to enhance the delivery of education, information, or support services to patients with hematologic cancers, particularly leukemia, lymphoma, and/or multiple myeloma.

Work Plan: The applicant should provide a detailed work plan for the first year that describes how the proposed activities will be conducted. The work plan should include the following:

1. Objectives: Specific, realistic, and time-phased, measurable, short-term (one year) and long-term (three year) objectives consistent with the intent of this program announcement.

2. Activities: Specific activities and strategies that will be undertaken to achieve each of the proposed short-term objectives during the budget period.

3. Time Line: A time line for assessing progress in meeting objectives.

4. Staff Responsibility: Staff responsible for completion of activities. Include the level of effort and allocation of time for each project activity by staff position.

5. Program Evaluation: How activities and their impact will be evaluated, including indicators of program success.

Grantees may choose to use the attached work plan format to present this information (See Attachment A of this announcement as posted on the CDC Web site.)

Project Management:

1. Describe the organization's structure and function, size, national membership substructure, activities on a national level, and methods of routine communication with members.

2. Describe each current or proposed staff position for this program by job title, function, education and experience, general duties, and activities with which that position will be involved.

Collaborative Activities: Describe past and proposed collaborative working partnerships with providers, community groups or others who serve or have established linkages with patients with hematologic cancers.

Budget and Justification: Provide a detailed line item budget and narrative justification of all operating expenses consistent with the proposed objectives and planned activities. Each budget item should be clearly related to a stated activity.

Participation in CDC sponsored training, workshops, or meetings is essential to the effective implementation of hematologic cancer education and information activities. Travel funds should be budgeted for the following meetings:

Three to five persons to Atlanta, Georgia to discuss program implementation progress (reverse site visit) and for consultation and technical assistance (two days, one trip per year.)

Up to two additional two-person trips to Atlanta, or other destinations to attend or assist with national workgroups, task forces, or committees (one to three days.)

Additional information may be included in the application appendices. The appendices will not be counted toward the narrative page limit, but should not exceed 20 pages. This additional information includes:

• Curriculum vitae

• Job descriptions

• Organizational charts

• Work plan

• Any other supporting documentation

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: May 3, 2004.

CDC requests that you send a LOI if you intend to apply for this program. Although the LOI is not required, not binding, and does not enter into the review of your subsequent application, the LOI will be used to gauge the level of interest in this program, and to allow CDC to plan the application review.

Application Deadline Date: May 28, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV. 4. Intergovernmental Review of Applications

Executive Order 12372 does not apply to this program.

IV. 5. Funding Restrictions

Restrictions, which must be taken into account while writing your budget, are as follows:

• Funds may be used to support personnel and to purchase supplies and services directly related to program activities consistent with the scope of this announcement. While the purchase of equipment is discouraged, it will be considered for approval if justified on the basis of being essential to the program and not available from another source.

• Funds provided under this announcement are not to be used to conduct research.

• Funds may not be used for the purchase or lease of land or buildings, construction of facilities, renovation of existing space, or the delivery of clinical and therapeutic services, personal health services, medications, rehabilitation or other costs associated with screening or treatment for cancer.

• Funds provided under this announcement may not be used for the endorsement or promotion of any drugs, health products, or medical supplies and equipment.

• Applicants are encouraged to maximize the public health benefit of CDC funding. Recipients have the ability to redirect up to 25 percent of the total approved budget to achieve stated goals and objectives within the scope of the award, except from categories that require prior approval such as contracts or change in scope or key personnel. A list of required prior approval actions will be included in the Notice of Grant Award.

• Awards will not allow reimbursement of pre-award costs.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to: Christine Dauer, Public Health Advisor, Centers for Disease Control and Prevention, National Center for Chronic Disease Prevention and Health Promotion, Division of Cancer Prevention and Control, Office of the Director, 4770 Buford Highway, NE., Mailstop K-52, Atlanta, GA 30341-3724, Telephone: (770) 488-3056, Fax: (770) 488-4760, E-mail: CDauer@cdc.gov.

Application Submission Address: Submit the original and two hard copies of your application by mail or express delivery service to: Technical Information Management-PA# 04159, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

Evaluation Criteria (100 Points Total)

1. Work Plan (50 Points)

• Objectives

Are short-term (one year) and long-term (three year) objectives specific, time-phased, measurable, realistic, related to identified needs and consistent with the purpose of this program announcement?

• Activities

Does the applicant's plan for achieving the proposed activities appear realistic and feasible and relate to the programmatic requirements and purposes of this program announcement?

• Evaluation Plan

Does the proposed evaluation plan address progress toward meeting goals and objectives, describe indicators of program success, and appear to be reasonable and feasible?

2. Project Management (25 Points)

Does proposed staffing, organizational structure, staff experience and background, training needs or plan, job descriptions and curricula vitae for both proposed and current staff indicate past experience in carrying out similar programs and the ability to carry out the purposes of the current program? Does the applicant demonstrate ability to manage the project, including lines of communication, and organizational support? Can the activities described reasonably be accomplished? What is the relationship of the activities to the expected outcomes?

3. Collaborative Activities (15 Points)

Does the applicant describe clear and complete plans to develop relationships with or engage other organizations, agencies, or partners to provide for complementary or supplementary activities and resources?

4. Capacity (10 Points)

Does the applicant demonstrate the capacity and ability of the organization to implement proposed activities including, infrastructure, relationship to intended audience, and experience with partners?

5. Budget and Justification (Not Scored)

Is the budget well-justified, reasonable, and consistent with the purpose and activities of the program?

V.2. Review and Selection Process

Applications will be reviewed for completeness by the Procurement and Grants Office (PGO) staff, and for responsiveness by the National Center for Chronic Disease (NCCD), Division of Cancer Prevention and Control (DCPC). Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

August 16, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-8 Public Health System Reporting Requirements.

• AR-10 Smoke-Free Workplace Requirements.

• AR-11 Healthy People 2010.

• AR-12 Lobbying Restrictions.

• AR-14 Accounting System Requirements.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report, no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Christine Dauer, Public Health Advisor, Centers for Disease Control and Prevention, National Center for Chronic Disease Prevention and Health Promotion, Division of Cancer Prevention and Control, Office of the Director.

For mail service: 4770 Buford Highway, NE., Mailstop K-52, Atlanta, GA 30341-3724, Telephone: (770) 488-3056, Fax: (770) 488-4760, E-mail: CDauer@cdc.gov.

For financial, grants management, or budget assistance, contact: Angela Webb, Grants Management Specialist, CDC Procurement and Grants Office, 2920 Brandywine Road, Atlanta, GA 30341, Telephone: 770-488-2784, E-mail: aqw6@cdc.gov.

VIII. Other Information

Technical Assistance Workshop

Technical assistance will be available for potential applicants during a workshop scheduled for April 26, 2004 in Atlanta, GA at the Atlanta Airport Executive Conference Center. The purpose of the workshop is to help potential applicants understand the scope and intent of the program announcement, Public Health Service funding policies, and application and review procedures. Participation in the workshop is not mandatory. Applicants who wish to attend the workshop will be responsible for their own travel and lodging expenses. Applicants who plan to attend the workshop must RSVP to Christine Dauer at e-mail CDauer@cdc.gov by no later than April 18, 2004.

Dated: March 26, 2004.
Edward Schultz,
Acting Director, Procurement and Grants Office, Centers for Disease Control and Prevention.

[FR Doc. 04-7306 Filed 3-31-04; 8:45 am]

BILLING CODE 4163-18-P